DEPARTMENT OF EDUCATION

[CFDA No. 84.031H]

Office of Postsecondary Education; Strengthening Institutions (SIP), American Indian Tribally Controlled Colleges and Universities (TCCU), Alaska Native and Native Hawaiian-Serving Institutions (ANNH) and Developing Hispanic-Serving Institutions (HSI) Programs; Notice Inviting Applications for Designation as Eligible Institutions for Fiscal Year (FY) 2005

Purpose of Programs: Under the SIP, TCCU, and ANNH Programs, (Title III Part A programs) authorized under Part A of Title III of the Higher Education Act of 1965, as amended (HEA), institutions of higher education are eligible to apply for grants if they meet specific statutory and regulatory eligibility requirements. Similarly, institutions of higher education are eligible to apply for grants under the HSI Program, authorized under Title V of the HEA, if they meet specific statutory and regulatory requirements. In addition, an institution that is designated as an eligible institution under those programs may also receive a waiver of certain non-Federal share requirements under the Federal Supplemental Educational Opportunity Grant (FSEOG), the Federal Work Study (FWS), the Student Support Services (SSS) and the Undergraduate International Studies and Foreign Language (UISFL) Programs. The FSEOG, FWS and SSS Programs are authorized under Title IV of the HEA; the UISFL Program is authorized under Title VI of the HEA.

Qualified institutions may receive these waivers even if they are not recipients of grant funds under the Title III, Part A Programs or the HSI Program.

Special Note: To qualify as an eligible institution under the Title III, Part A Programs or the HSI Program, your institution must satisfy several criteria, including one related to needy student enrollment and one related to average Educational and General (E&G) expenditures for a particular base year. The most recent data available for E&G expenditures is for base year 2001-2002. In order to award FY 2005 grants in a timely manner, we will use the most recent data available. Therefore, we will use E&G expenditure threshold data from the base year 2001-2002. In completing your eligibility application, please use E&G expenditure data from the base year 2001-2002.

Eligible Applicants: To qualify as an eligible institution under the Title III, Part A Programs or the HSI Program, an accredited institution must, among other requirements, have an enrollment of needy students, and its average E&G expenditures per full-time equivalent (FTE) undergraduate student must be low in comparison with the average E&G expenditures per FTE undergraduate student of institutions that offer similar instruction. To be an eligible Hispanic Serving Institution, an institution must—

(1) Be accredited or preaccredited by a nationally recognized accrediting agency or association that the Secretary has determined to be a reliable authority as to the quality of education or training offered;

(2) Be legally authorized by the State in which it is located to be a junior college or to provide an educational program for which it awards a bachelor's degree;

(3) Have an enrollment of needy students as described in the Enrollment Of Needy Students section of this notice;

(4) Have low average educational and general expenditures per full-time equivalent undergraduate student as described in the Educational And General Expenditures Per Full-Time Equivalent Student section of this notice and the application booklet;

(5) Have, at the time of application, an enrollment of undergraduate full-time equivalent students that is at least 25 percent Hispanic students; and

(6) Provide assurances that not less than 50 percent of its Hispanic students are low-income individuals.

Note: Numbers five and six above are required at the time of submission of the grant application.

The complete eligibility requirements for the Title III, Part A Programs are found in 34 CFR 607.2 through 607.5. These regulations may be accessed by visiting the following Department of Education Web site: http://www.access.gpo.gov/nara/cfr/waisidx_02/34cfr607_02.html. The complete eligibility requirements for the HSI Program are found in 34 CFR 606.2 through 34 CFR 606.5. These regulations may be accessed by visiting the following Department of Education Web site: http://www.access.gpo.gov/nara/cfr/waisidx_01/34cfr606_01.html.

Enrollment of Needy Students: Under 34 CFR 606.3(a) and 607.3(a), an institution is considered to have an enrollment of needy students if (1) at least 50 percent of its degree students received financial assistance under one or more of the following programs: Federal Pell Grant, FSEOG, FWS, and Federal Perkins Loan Programs; or (2) the percentage of its undergraduate degree students who were enrolled on at least a half-time basis and received Federal Pell Grants exceeded the median percentage of undergraduate degree students who were enrolled on at least a half-time basis and received Federal Pell Grants at comparable institutions that offered similar instruction.

To qualify under this latter criterion, an institution's Federal Pell Grant percentage for base year 2002-2003 must be more than the median for its category of comparable institutions provided in the table in this notice.

Educational And General Expenditures Per Full-Time Equivalent Student: An institution should compare its 2001-2002 average E&G expenditures per FTE student to the average E&G expenditure per FTE student for its category of comparable institutions contained in the table in this notice. If the institution's average E&G expenditures for the 2001-2002 base year are less than the average for its category of comparable institutions, it meets this eligibility requirement.

An institution's average E&G expenditures are the total amount it expended during the base year for instruction, research, public service, academic support, student services, institutional support including library expenditures, operation and maintenance, scholarships and fellowships, and mandatory transfers.

The following table identifies the relevant median Federal Pell Grant percentages for the base year 2002-2003 and the relevant average E&G expenditures per FTE student for the base year 2001-2002 for the four categories of comparable institutions:

Type of institution | 2002-2003 Median Pell grant percentage | 2001-2002 Average E&G per FTE
2-year Public Institutions | 24.6 | $8,738
2-year Non-Profit Private Institutions | 40.6 | 22,452
4-year Public Institutions | 20.9 | 21,037
4-year Non-Profit Private Institutions | 21.7 | 33,509

Waiver Information: Institutions of higher education that are unable to meet the needy student enrollment requirement or the average E&G expenditures requirement may apply to the Secretary for waivers of these requirements, as described in 34 CFR 606.3(b), 606.4(c) and (d), 607.3(b) and 607.4(c) and (d). Institutions requesting a waiver of the needy student enrollment requirement or the average E&G expenditures requirement must include in their application detailed information supporting the waiver request, as described in the instructions for completing the application.

The regulations governing the Secretary's authority to waive the needy student requirement waiver, 34 CFR 606.3(b)(2) and (3) and 607.3(b)(2) and (3) refers to “low-income” students or families. The regulations define ''low-income'' as an amount that does not exceed 150 percent of the amount equal to the poverty level, as established by the U.S. Bureau of the Census, 34 CFR 606.3(c) and 607.3(c).

For the purposes of this waiver provision, the following table sets forth the low-income levels for the various sizes of families:

2004 Annual Low-Income Levels
Size of family unit | Contiguous 48 states, the District of Columbia and outlying | Alaska | Hawaii
1 | $13,965 | $17,445 | $16,050
2 | 18,735 | 23,415 | 21,540
3 | 23,505 | 29,385 | 27,030
4 | 28,275 | 35,355 | 32,520
5 | 33,045 | 41,325 | 38,010
6 | 37,815 | 47,295 | 43,500
7 | 42,585 | 53,265 | 48,990
8 | 47,355 | 59,235 | 54,480

For family units with more than eight members, add the following amount for each additional family member: $4,770 for the contiguous 48 states, the District of Columbia and outlying jurisdictions; $5,970 for Alaska; and $5,490 for Hawaii.

The figures shown under family income represent amounts equal to 150 percent of the family income levels established by the U.S. Bureau of the Census for determining poverty status. The poverty guidelines were published by the U.S. Department of Health and Human Services in the Federal Register on February 13, 2004 (69 FR 7336-7338).

The information about “metropolitan statistical areas'' referenced in 34 CFR 606.3(b)(4) and 607.3(b)(4) may be obtained by requesting the Metropolitan Statistical Areas, 1999 publication, order number PB99-501538, from the National Technical Information Service, Document Sales, 5285 Port Royal Road, Springfield, Virginia 22161, telephone number 1-800-553-6847. There is a charge for this publication.

Applications Available: November 30, 2004.

Deadline For Transmittal Of Applications: January 13, 2005, for an applicant institution that wishes to apply for a FY 2005 new grant under the Title III, Part A Programs or the HSI Program; April 28, 2005, for an institution that wishes to apply only for cost-sharing waivers under the FSEOG, FWS, SSS or UISFL Programs; and, January 13, 2005, for an institution that wishes to apply for both a grant under the Title III, Part A Programs or the HSI Program and a waiver of the non-Federal share requirement.

Electronic Submission Of Applications: We are requiring that applications for institutional eligibility for FY 2005 under Request for Designation as an Eligible Institution be submitted electronically at the following Web site: http://webprod.cbmiweb.com/Title3and5/index.html.

If you are unable to submit an application electronically you may submit a written request for a waiver of the electronic submission requirement. In the request, you should explain the reason or reasons that prevent you from using the Internet to submit your application. The request should be addressed to: Dr. Maria Carrington, U.S. Department of Education, 1990 K Street, NW., room 6033, Washington, DC 20202-8513. Please submit your request no later than two weeks before the application deadline date.

If, within two weeks of the application deadline date, you are unable to submit an application electronically, you must submit a paper application by the application deadline date in accordance with the transmittal instructions in the application package. The paper application must include a written request for a waiver documenting the reasons that prevented the applicant from using the Internet to submit the application.

To enter the Web site, you must use your institution's unique 8-digit identifier, i.e., your Office of Postsecondary Education Identification Number (OPE ID number). If you receive a hard copy of the eligibility application and instructions from us in the mail, look for the OPE ID number on the address label. Otherwise, your business office or student financial aid office should have the OPE ID number. If your business office or student financial aid office does not have the OPE ID number, contact the Department, using the e-mail addresses of the contact persons listed in this notice under FOR FURTHER INFORMATION CONTACT.

You will find detailed instructions for completing the application form electronically under the “eligibility 2005” link at either of the following Web sites: http://www.ed.gov/programs/iduestitle3a.index.html; or http://www.ed.gov/his.

For institutions of higher education that are unable to meet the needy student enrollment requirement or the average E&G expenditure requirement and wish to request a waiver of one or both of those requirements, you must complete your designation application form electronically and transmit your waiver request narrative document from the following Web site: http://webprod.cbmiweb.com/Title3and5/index.html.

If your institution is unable to electronically submit your narrative waiver request, print the electronic application form and mail it along with the waiver request narrative to Dr. Maria Carrington, Team Leader, Institutional Development and Undergraduate Education Service, U.S. Department of Education, 1990 K Street, NW., room 6033, Request for Eligibility Designation, Washington, DC 20202-8513.

Applicable Regulations: (a) The Education Department General Administrative Regulations in 34 CFR parts 74, 75, 77, 79, 82, 84, 85, 86, 97, 98, and 99. (b) The regulations for the Title III, Part A Programs in 34 CFR part 607, and for the HSI Program in 34 CFR part 606.

FOR FURTHER INFORMATION CONTACT: Imogene Byers, Don Crews, Ellen M. Sealey, Kelley Harris, Sophia McArdle or Carnisia Proctor, Institutional Development and Undergraduate Education Service, U.S. Department of Education, 1990 K Street, NW., room 6033, Request for Eligibility Designation, Washington, DC 20202-8513. They may be contacted at the following e-mail addresses or phone numbers: Imogene.Byers@ed.gov, 202-502-7672; Don.Crews@ed.gov, 202-502-7574; Ellen.Sealey@ed.gov, 202-502-7580; Kelley.Harris@ed.gov, 202-219-7083; Sophia.McArdle@ed.gov, 202-219-7078; Carnisia.Proctor@ed.gov, 202-502-7606.

If you use a telecommunications device for the deaf (TDD), you may call the Federal Information Relay Service (FIRS) at 1-800-877-8339.

Individuals with disabilities may obtain this document in an alternative format (e.g., Braille, large print, audio tape, or computer diskette) on request to the contact persons listed under FOR FURTHER INFORMATION CONTACT.

Individuals with disabilities may obtain a copy of the application package in an alternative format by contacting those persons.

Electronic Access to This Document: You may view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1057-1059d, 1101-1103g.

Dated: November 24, 2004.
Sally L. Stroup,
Assistant Secretary for Postsecondary Education.

[FR Doc. E4-3375 Filed 11-29-04; 8:45 am]

BILLING CODE 4000-01-P